FEDERAL COMMUNICATIONS COMMISSION

47 CFR Part 25

[IB Docket No. 06-123; DA 15-1147]

Supplemental Comments Sought on Proposed 17/24 GHz Reverse Band BSS Ground Path Operations

AGENCY: Federal Communications Commission.

ACTION: Proposed rule.

SUMMARY: In this document, the International Bureau of the Commission invites interested parties to provide any supplemental information or comments concerning the Commission's proposed ground-path interference rules for 17/24 GHz Reverse Band Broadcasting-Satellite Service (BSS) operations.

This request is intended to refresh the record in this proceeding, and to provide parties with the opportunity to update or add to their comments, as well as allowing parties who have not filed comments in this proceeding previously to do so.

DATES: Submit comments on or before November 25, 2015, and replies on or before December 10, 2015.

ADDRESSES: You may submit comments, identified by IB Docket No. 06-123, by any of the following methods:

Federal Communications Commission's Web site: http://apps.fcc.gov/ecfs/. Follow the instructions for submitting comments.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

SUPPLEMENTARY INFORMATION: This is a summary of the Public Notice in IB Docket No. 06-123, DA 15-1147, adopted October 7, 2015, and released October 7, 2015. The full text of this document is available for inspection and copying during normal business hours in the FCC Reference Center, 445 12th Street SW., Washington, DC 20554. The document also is available for download over the Internet at http://transition.fcc.gov/Daily_Releases/Daily_Business/2015/db1007/DA-15-1147A1.pdf.

Synopsis

On May 2, 2007, the Commission proposed rules in a Further Notice of Proposed Rulemaking (FNPRM) to mitigate ground path interference. The ground path interference issues in this proceeding have been considered and discussed among the interested parties previously. Since considerable time has passed, however, since the release of the FNPRM, the Commission asks the public to provide any updates for the record and any additional comments on the proposed rules for ground path interference mitigation in 17/24 GHz reverse-band BSS operations presented in the FNPRM.

FOR FURTHER INFORMATION CONTACT: Stephen Duall or Sean O'More, International Bureau, FCC, (202) 418-2453 or via the email to: Stephen.Duall@fcc.gov and Sean.O'More@fcc.gov.

Comment Filing Procedures

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://apps.fcc.gov/ecfs/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (tty).

Paperwork Reduction Act

This document does not contain proposed information collection requirements required by the Paperwork Reduction Act of 1995, Public Law 104-13. It also does not impose information collection burdens for small business concerns with fewer than 25 employees pursuant to the Small Business Paperwork Relief Act of 2002, Public Law 107-198, see 44 U.S.C. 3506(c)(4).

Federal Communications Commission.
Sarah Van Valzah,
Assistant Bureau Chief for Management, International Bureau.

[FR Doc. 2015-27154 Filed 10-23-15; 8:45 am]

BILLING CODE 6712-01-P